DEPARTMENT OF VETERANS AFFAIRS

[OMB Control No. 2900-0712]

Proposed Information Collection (Nation-Wide Customer Satisfaction Surveys) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each extension of a previously approved collection, and allow 60 days for public comment in response to the notice. This notice solicits comments on information needed to identify problems or complaints in VA's health care services.

DATES: Written comments and recommendations on the proposed collection of information should be received on or before April 30, 2010.

ADDRESSES: Submit written comments on the collection of information through the Federal Docket Management System (FDMS) at http://www.Regulations.gov; or to Mary Stout, Veterans Health Administration (193E1), Department of Veterans Affairs, 810 Vermont Avenue, NW., Washington, DC 20420 or e-mail: mary.stout@va.gov. Please refer to “OMB Control No. 2900-0712” in any correspondence. During the comment period, comments may be viewed online through FDMS.

FOR FURTHER INFORMATION CONTACT: Mary Stout (202) 461-5867 or FAX (202) 273-9381.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Nation-wide Customer Satisfaction Surveys, VA Forms 1465-2 through 1465-4.

OMB Control Number: 2900-0712.

Type of Review: Extension of a previously approved collection.

Abstract: The Survey of Health Experience of Patients (SHEP) Survey is used to obtain information from VA patients that will be used to identify problems or compliant and to improve the quality of health care services delivered to veterans. Data will be use to measure improvement toward the goal of matching or exceeding non-VA external benchmark performance.

Affected Public: Individuals or households.

Estimated Annual Burden:

a. Inpatient Short Form, VA Form 10-1465-2—16,875 hours.

b. Ambulatory Care Long Form, VA Form 10-1465-3—9,802 hours.

c. Ambulatory Care Short Form, VA Form 10-1465-4—67,573 hours.

Estimated Average Burden per Respondent:

a. Inpatient Short Form, VA Form 10-1465-2—15 minutes.

b. Ambulatory Care Long Form, VA Form 10-1465-3—25 minutes.

c. Ambulatory Care Short Form, VA Form 10-1465-4—20 minutes.

Frequency of Response: On occasion.

Estimated Number of Respondents:

a. Inpatient Short Form, VA Form 10-1465-2—75,000.

b. Ambulatory Care Long Form, VA Form 10-1465-3—23,524.

c. Ambulatory Care Short Form, VA Form 10-1465-4—202,720.

Dated: February 23, 2010.
By direction of the Secretary.
Denise McLamb,
Program Analyst, Enterprise Records Service.

[FR Doc. 2010-4062 Filed 2-26-10; 8:45 am]

BILLING CODE 8320-01-P